DEPARTMENT OF ENERGY

Federal Energy Regulatory Commission

Combined Notice of Filings #1

Take notice that the Commission received the following exempt wholesale generator filings:

Docket Numbers: EG20-197-000.

Applicants: Deuel Harvest Wind Energy LLC.

Description: Notice of Self-Certification of Exempt Wholesale Generator Status of Deuel Harvest Wind Energy LLC.

Filed Date: 6/24/20.

Accession Number: 20200624-5035.

Comments Due: 5 p.m. ET 7/15/20.

Take notice that the Commission received the following electric rate filings:

Docket Numbers: ER20-2144-000.

Applicants: Southern California Edison Company.

Description: Section 205(d) Rate Filing: Letter Agreement IP Oberon, LLC SA No. 248, TOT910 to be effective 6/25/2020.

Filed Date: 6/24/20.

Accession Number: 20200624-5005.

Comments Due: 5 p.m. ET 7/15/20.

Docket Numbers: ER20-2145-000.

Applicants: ISO New England Inc., New England Power Pool Participants Committee.

Description: Section 205(d) Rate Filing: ISO-NE and NEPOOL; Revisions to Tariff Related to FAP Enhancements to be effective 9/10/2020.

Filed Date: 6/24/20.

Accession Number: 20200624-5025.

Comments Due: 5 p.m. ET 7/15/20.

Docket Numbers: ER20-2146-000.

Applicants: Midcontinent Independent System Operator, Inc.

Description: Section 205(d) Rate Filing: 2020-06-24_SA 2884 OTP-Crowned Ridge 3rd Rev GIA (G736 J442) to be effective 6/10/2020.

Filed Date: 6/24/20.

Accession Number: 20200624-5032.

Comments Due: 5 p.m. ET 7/15/20.

Docket Numbers: ER20-2147-000.

Applicants: Tri-State Generation and Transmission Association, Inc.

Description: Section 205(d) Rate Filing: Rate Schedule FERC No. 283 between Tri-State and Continental to be effective 6/25/2020.

Filed Date: 6/24/20.

Accession Number: 20200624-5034.

Comments Due: 5 p.m. ET 7/15/20.

Docket Numbers: ER20-2148-000.

Applicants: Lexington Chenoa Wind Farm LLC.

Description: Baseline eTariff Filing: Reactive Power Compensation Filing to be effective 8/23/2020.

Filed Date: 6/24/20.

Accession Number: 20200624-5048.

Comments Due: 5 p.m. ET 7/15/20.

Docket Numbers: ER20-2149-000.

Applicants: PJM Interconnection, L.L.C.

Description: Section 205(d) Rate Filing: Original WMPA, Service Agreement No. 5666; Queue No. AF1-033 to be effective 5/28/2020.

Filed Date: 6/24/20.

Accession Number: 20200624-5054.

Comments Due: 5 p.m. ET 7/15/20.

Docket Numbers: ER20-2150-000.

Applicants: Alcoa Power Generating Inc.

Description: Section 205(d) Rate Filing: Fourth Supplemental Transmission Services Agreement to be effective 7/1/2020.

Filed Date: 6/24/20.

Accession Number: 20200624-5138.

Comments Due: 5 p.m. ET 7/15/20.

Docket Numbers: ER20-2151-000.

Applicants: Morris Cogeneration, LLC.

Description: Compliance filing: Morris Cogeneration, LLC Revised MBR Tariff Filing to be effective 6/25/2020.

Filed Date: 6/24/20.

Accession Number: 20200624-5151.

Comments Due: 5 p.m. ET 7/15/20.

Docket Numbers: ER20-2152-000.

Applicants: EF Kenilworth LLC.

Description: Compliance filing: EF Kenilworth LLC Revised MBR Tariff Filing to be effective 6/25/2020.

Filed Date: 6/24/20.

Accession Number: 20200624-5154.

Comments Due: 5 p.m. ET 7/15/20.

Docket Numbers: ER20-2153-000.

Applicants: Sanford Airport Solar, LLC.

Description: Baseline eTariff Filing: Sanford Airport Solar, LLC Application for MBR Authority to be effective 8/24/2020.

Filed Date: 6/24/20.

Accession Number: 20200624-5155.

Comments Due: 5 p.m. ET 7/15/20.

Take notice that the Commission received the following electric securities filings:

Docket Numbers: ES20-45-000.

Applicants: Indianapolis Power & Light Company.

Description: Application Under Section 204 of the Federal Power Act for Authorization to Issue Securities of Indianapolis Power & Light Company.

Filed Date: 6/24/20.

Accession Number: 20200624-5108.

Comments Due: 5 p.m. ET 6/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2020.
Nathaniel J. Davis, Sr.,
Deputy Secretary.

[FR Doc. 2020-14034 Filed 6-29-20; 8:45 am]

BILLING CODE 6717-01-P